DEPARTMENT OF ENERGY

Federal Energy Regulatory Commission

Combined Notice of Filings

Take notice that the Commission has received the following Natural Gas and Oil Pipeline Rate and Refund Report filings:

Filings Instituting Proceedings

Docket Numbers: RP23-1089-000.

Applicants: West Texas Gas Utility, LLC.

Description: Annual Purchased Gas Cost Reconciliation Report of West Texas Gas Utility, LLC.

Filed Date: 9/28/23.

Accession Number: 20230928-5113.

Comment Date: 5 p.m. ET 10/10/23.

Docket Numbers: RP23-1090-000.

Applicants: Texas Eastern Transmission, LP.

Description: § 4(d) Rate Filing: Negotiated Rates—Nextera NRAs eff 10-01-23 to be effective 10/1/2023.

Filed Date: 9/28/23.

Accession Number: 20230928-5115.

Comment Date: 5 p.m. ET 10/10/23.

Docket Numbers: RP23-1091-000.

Applicants: Texas Eastern Transmission, LP.

Description: § 4(d) Rate Filing: Action Alert Penalty Provisions Modification to be effective 11/1/2023.

Filed Date: 9/28/23.

Accession Number: 20230928-5125.

Comment Date: 5 p.m. ET 10/10/23.

Docket Numbers: RP23-1092-000.

Applicants: Equitrans, L.P.

Description: § 4(d) Rate Filing: Negotiated Rate Agreements—10/1/2023 to be effective 10/1/2023.

Filed Date: 9/29/23.

Accession Number: 20230929-5007.

Comment Date: 5 p.m. ET 10/11/23.

Docket Numbers: RP23-1093-000.

Applicants: Enable Gas Transmission, LLC.

Description: § 4(d) Rate Filing: Fuel Tracker Filing—Effective November 1, 2023 to be effective 11/1/2023.

Filed Date: 9/29/23.

Accession Number: 20230929-5008.

Comment Date: 5 p.m. ET 10/11/23.

Docket Numbers: RP23-1094-000.

Applicants: Eastern Gas Transmission and Storage, Inc.

Description: § 4(d) Rate Filing: EGTS—2023 Annual EPCA to be effective 11/1/2023.

Filed Date: 9/29/23.

Accession Number: 20230929-5011.

Comment Date: 5 p.m. ET 10/11/23.

Docket Numbers: RP23-1095-000.

Applicants: Eastern Gas Transmission and Storage, Inc.

Description: § 4(d) Rate Filing: EGTS—2023 Annual TCRA to be effective 11/1/2023.

Filed Date: 9/29/23.

Accession Number: 20230929-5012.

Comment Date: 5 p.m. ET 10/11/23.

Docket Numbers: RP23-1096-000.

Applicants: Enable Mississippi River Transmission, LLC.

Description: § 4(d) Rate Filing: 2023 MRT Annual Fuel Filing to be effective 11/1/2023.

Filed Date: 9/29/23.

Accession Number: 20230929-5014.

Comment Date: 5 p.m. ET 10/11/23.

Docket Numbers: RP23-1097-000.

Applicants: National Fuel Gas Supply Corporation.

Description: § 4(d) Rate Filing: GT&C Section 42 GHG/PS Filing 2023 to be effective 11/1/2023.

Filed Date: 9/29/23.

Accession Number: 20230929-5016.

Comment Date: 5 p.m. ET 10/11/23.

Docket Numbers: RP23-1098-000.

Applicants: WBI Energy Transmission, Inc.

Description: § 4(d) Rate Filing: 2023 Negotiated SA—ONEOK (FT-1917) to be effective 11/1/2023.

Filed Date: 9/29/23.

Accession Number: 20230929-5017.

Comment Date: 5 p.m. ET 10/11/23.

Docket Numbers: RP23-1099-000.

Applicants: Gas Transmission Northwest LLC.

Description: § 4(d) Rate Filing: GTN Section 4 Rate Case (1 of 7) to be effective 4/1/2024.

Filed Date: 9/29/23.

Accession Number: 20230929-5022.

Comment Date: 5 p.m. ET 10/11/23.

Docket Numbers: RP23-1100-000.

Applicants: WBI Energy Transmission, Inc.

Description: § 4(d) Rate Filing: 2023 Non-Conforming Negotiated Rate Service Agreement—LS15 Expansion to be effective 11/1/2023.

Filed Date: 9/29/23.

Accession Number: 20230929-5024.

Comment Date: 5 p.m. ET 10/11/23.

Docket Numbers: RP23-1101-000.

Applicants: Rover Pipeline LLC.

Description: § 4(d) Rate Filing: Fuel Filing on 9-29-2023 to be effective 11/1/2023.

Filed Date: 9/29/23.

Accession Number: 20230929-5027.

Comment Date: 5 p.m. ET 10/11/23.

Docket Numbers: RP23-1102-000.

Applicants: Carolina Gas Transmission, LLC.

Description: § 4(d) Rate Filing: CGT—2023 FRQ and TDA Report to be effective 11/1/2023.

Filed Date: 9/29/23.

Accession Number: 20230929-5028.

Comment Date: 5 p.m. ET 10/11/23.

Docket Numbers: RP23-1103-000.

Applicants: Tennessee Gas Pipeline Company, L.L.C.

Description: § 4(d) Rate Filing: Pipeline Safety and Greenhouse Gas Cost Adjustment Mechanism—2023 to be effective 11/1/2023.

Filed Date: 9/29/23.

Accession Number: 20230929-5037.

Comment Date: 5 p.m. ET 10/11/23.

Docket Numbers: RP23-1104-000.

Applicants: Trunkline Gas Company, LLC.

Description: § 4(d) Rate Filing: Fuel Filing on 9-29-23 to be effective 11/1/2023.

Filed Date: 9/29/23.

Accession Number: 20230929-5042.

Comment Date: 5 p.m. ET 10/11/23.

Docket Numbers: RP23-1105-000.

Applicants: Kern River Gas Transmission Company.

Description: § 4(d) Rate Filing: 2023 Housekeeping Filing to be effective 11/1/2023.

Filed Date: 9/29/23.

Accession Number: 20230929-5049.

Comment Date: 5 p.m. ET 10/11/23.

Docket Numbers: RP23-1106-000.

Applicants: Maritimes & Northeast Pipeline, L.L.C.

Description: § 4(d) Rate Filing: MNUS FRQ 2023 Filing to be effective 11/1/2023.

Filed Date: 9/29/23.

Accession Number: 20230929-5054.

Comment Date: 5 p.m. ET 10/11/23.

Docket Numbers: RP23-1107-000.

Applicants: Carlsbad Gateway, LLC.

Description: § 4(d) Rate Filing: Carlsbad Gateway Annual Fuel Use—Lost Gas Adjustment Filing to be effective 11/1/2023.

Filed Date: 9/29/23.

Accession Number: 20230929-5060.

Comment Date: 5 p.m. ET 10/11/23.

Docket Numbers: RP23-1108-000.

Applicants: Trunkline Gas Company, LLC.

Description: Compliance filing: Annual Report of Flow Through filed 9-29-23 to be effective N/A

Filed Date: 9/29/23.

Accession Number: 20230929-5063.

Comment Date: 5 p.m. ET 10/11/23.

Docket Numbers: RP23-1109-000.

Applicants: Wyoming Interstate Company, L.L.C.

Description: Compliance filing: Operational Purchase and Sale Report 2023 to be effective N/A.

Filed Date: 9/29/23.

Accession Number: 20230929-5068.

Comment Date: 5 p.m. ET 10/11/23.

Docket Numbers: RP23-1110-000.

Applicants: NEXUS Gas Transmission, LLC.

Description: § 4(d) Rate Filing: Negotiated Rates—Various Releases eff 10-1-2023 to be effective 10/1/2023.

Filed Date: 9/29/23.

Accession Number: 20230929-5074.

Comment Date: 5 p.m. ET 10/11/23.

Docket Numbers: RP23-1111-000.

Applicants: Wyoming Interstate Company, L.L.C.

Description: § 4(d) Rate Filing: Non Conforming Negotiated Rate Agreement (Oneok Rockies) to be effective 11/1/2023.

Filed Date: 9/29/23.

Accession Number: 20230929-5077.

Comment Date: 5 p.m. ET 10/11/23.

Docket Numbers: RP23-1112-000.

Applicants: Algonquin Gas Transmission, LLC.

Description: § 4(d) Rate Filing: Negotiated Rates—Various Releases eff 10-1-23 to be effective 10/1/2023.

Filed Date: 9/29/23.

Accession Number: 20230929-5079.

Comment Date: 5 p.m. ET 10/11/23.

Docket Numbers: RP23-1113-000.

Applicants: Algonquin Gas Transmission, LLC.

Description: Compliance filing: AGT September 2023 OFO Penalty Disbursement Report to be effective N/A.

Filed Date: 9/29/23.

Accession Number: 20230929-5085.

Comment Date: 5 p.m. ET 10/11/23.

Docket Numbers: RP23-1114-000.

Applicants: Transcontinental Gas Pipe Line Company, LLC.

Description: § 4(d) Rate Filing: Negotiated Rates—Cherokee AGL—Replacement Shippers—Oct 2023 to be effective 10/1/2023.

Filed Date: 9/29/23.

Accession Number: 20230929-5089.

Comment Date: 5 p.m. ET 10/11/23.

Docket Numbers: RP23-1115-000.

Applicants: Northwest Pipeline LLC.

Description: § 4(d) Rate Filing: Non-Conforming Agreements & Terminations—Citadel, Intermountain & Occidental to be effective 10/31/2023.

Filed Date: 9/29/23.

Accession Number: 20230929-5091.

Comment Date: 5 p.m. ET 10/11/23.

Docket Numbers: RP23-1116-000.

Applicants: Texas Gas Transmission, LLC.

Description: § 4(d) Rate Filing: 2023 Fuel Tracker Filing to be effective 11/1/2023.

Filed Date: 9/29/23.

Accession Number: 20230929-5096.

Comment Date: 5 p.m. ET 10/11/23.

Docket Numbers: RP23-1117-000.

Applicants: Young Gas Storage Company, Ltd.

Description: Compliance filing: Operational Purchase and Sale Report 2023 to be effective N/A.

Filed Date: 9/29/23.

Accession Number: 20230929-5097.

Comment Date: 5 p.m. ET 10/11/23.

Docket Numbers: RP23-1118-000.

Applicants: Northern Natural Gas Company.

Description: § 4(d) Rate Filing: 20230929 Negotiated Rate to be effective 10/1/2023.

Filed Date: 9/29/23.

Accession Number: 20230929-5107.

Comment Date: 5 p.m. ET 10/11/23

Docket Numbers: RP23-1119-000.

Applicants: MountainWest Overthrust Pipeline, LLC.

Description: § 4(d) Rate Filing: Amended Non-conforming TSAs WIC 6471 and 6472 to be effective 10/1/2023.

Filed Date: 9/29/23.

Accession Number: 20230929-5127.

Comment Date: 5 p.m. ET 10/11/23.

Docket Numbers: RP23-1120-000.

Applicants: MountainWest Pipeline, LLC.

Description: § 4(d) Rate Filing: Statement of Negotiated Rates V23—Wapiti 7070 to be effective 11/1/2023.

Filed Date: 9/29/23.

Accession Number: 20230929-5132.

Comment Date: 5 p.m. ET 10/11/23.

Docket Numbers: RP23-1121-000.

Applicants: Saltville Gas Storage Company L.L.C.

Description: § 4(d) Rate Filing: SGSC 2023 Fuel Filing to be effective 11/1/2023.

Filed Date: 9/29/23.

Accession Number: 20230929-5136.

Comment Date: 5 p.m. ET 10/11/23.

Docket Numbers: RP23-1122-000.

Applicants: Gulf Run Transmission, LLC.

Description: § 4(d) Rate Filing: Amended NRA—Rockcliff to be effective 10/1/2023.

Filed Date: 9/29/23.

Accession Number: 20230929-5140.

Comment Date: 5 p.m. ET 10/11/23.

Docket Numbers: RP23-1123-000.

Applicants: Transcontinental Gas Pipe Line Company, LLC.

Description: § 4(d) Rate Filing: Non-Conforming—McMullen Supply Enhancement to be effective 11/1/2023.

Filed Date: 9/29/23.

Accession Number: 20230929-5149.

Comment Date: 5 p.m. ET 10/11/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP22-1031-000.

Applicants: Transwestern Pipeline Company, LLC.

Description: Refund Report: RP22-1031-000 Refund Report to be effective N/A.

Filed Date: 9/29/23.

Accession Number: 20230929-5093.

Comment Date: 5 p.m. ET 10/11/23.

Docket Numbers: RP22-1222-004.

Applicants: Natural Gas Pipeline Company of America LLC.

Description: Compliance filing: Settlement Compliance-Implementation of November 1, 2023 Rates to be effective 11/1/2023.

Filed Date: 9/29/23.

Accession Number: 20230929-5045.

Comment Date: 5 p.m. ET 10/11/23.

Docket Numbers: RP23-1039-001.

Applicants: Venture Global Gator Express, LLC.

Description: Tariff Amendment: Amendment to 1—Part 4 section 23 to be effective 10/31/2023.

Filed Date: 9/29/23.

Accession Number: 20230929-5134.

Comment Date: 5 p.m. ET 10/11/23.

Docket Numbers: RP23-1099-000.

Applicants: Gas Transmission Northwest LLC.

Description: Report Filing: GTN Section 4 Rate Case (2 of 7) to be effective N/A.

Filed Date: 9/29/23.

Accession Number: 20230929-5065.

Comment Date: 5 p.m. ET 10/11/23.

Docket Numbers: RP23-1099-000.

Applicants: Gas Transmission Northwest LLC.

Description: Report Filing: GTN Section 4 Rate Case (3 of 7) to be effective N/A.

Filed Date: 9/29/23.

Accession Number: 20230929-5080.

Comment Date: 5 p.m. ET 10/11/23.

Docket Numbers: RP23-1099-000.

Applicants: Gas Transmission Northwest LLC.

Description: Report Filing: GTN Section 4 Rate Case (4 of 7) to be effective N/A.

Filed Date: 9/29/23.

Accession Number: 20230929-5101.

Comment Date: 5 p.m. ET 10/11/23.

Docket Numbers: RP23-1099-000.

Applicants: Gas Transmission Northwest LLC.

Description: Report Filing: GTN Section 4 Rate Case (5 of 7) to be effective N/A.

Filed Date: 9/29/23.

Accession Number: 20230929-5104.

Comment Date: 5 p.m. ET 10/11/23.

Docket Numbers: RP23-1099-000.

Applicants: Gas Transmission Northwest LLC.

Description: Report Filing: GTN Section 4 Rate Case (6 of 7) to be effective N/A.

Filed Date: 9/29/230

Accession Number: 20230929-5111.

Comment Date: 5 p.m. ET 10/11/23.

Docket Numbers: RP23-1099-000.

Applicants: Gas Transmission Northwest LLC.

Description: Report Filing: GTN Section 4 Rate Case (7 of 7) to be effective N/A.

Filed Date: 9/29/23.

Accession Number: 20230929-5119.

Comment Date: 5 p.m. ET 10/11/23.

Docket Numbers: RP23-1099-001.

Applicants: Gas Transmission Northwest LLC.

Description: Tariff Amendment: GTN Section 4 Rate Case Amendment—Eff Nov 1, 2023 to be effective 11/1/2023.

Filed Date: 9/29/23.

Accession Number: 20230929-5061.

Comment Date: 5 p.m. ET 10/11/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 29, 2023.
Kimberly D. Bose,
Secretary.

[FR Doc. 2023-22203 Filed 10-4-23; 8:45 am]

BILLING CODE 6717-01-P